DEPARTMENT OF THE INTERIOR

Bureau of Ocean Energy Management, Regulation and Enforcement

[Docket No. BOEM-2010-0075]

Commercial Leasing for Wind Power on the Outer Continental Shelf (OCS) Off Delaware, Notice of Proposed Lease Area and Request for Competitive Interest

AGENCY: Bureau of Ocean Energy Management, Regulation and Enforcement (BOEMRE), Interior.

ACTION: Request for Competitive Interest (RFCI) in Proposed Lease Area off Delaware.

SUMMARY: BOEMRE provides public notice of a proposed lease area for commercial wind development on the OCS off Delaware and requests submission of indications of competitive interest. The proposed lease area was identified through the issuance of a Request for Interest (RFI) published in the Federal Register on April 26, 2010 (75 FR 21653). In response to that notice, BOEMRE received two nominations of proposed lease areas: One from Bluewater Wind Delaware LLC (Bluewater) and another from Occidental Development & Equities, LLC (Occidental). Subsequently, BOEMRE determined that Bluewater is qualified to hold an OCS commercial wind lease in accordance with the regulatory requirements at 30 CFR 285.106 and .107, and that Occidental did not provide the necessary documentation demonstrating that it was qualified to hold an OCS commercial lease at the time. As a result, Occidental's lease nomination was nullified and Bluewater's nomination remained as the only eligible expression of interest upon which to base the proposed lease area. In accordance with 30 CFR 285.232, by letter dated November 8, 2010, BOEMRE informed Bluewater that there appeared to be no competitive interest in the proposed lease area and requested that Bluewater inform BOEMRE if it wished to proceed with acquiring a lease. By correspondence dated December 3 and December 9, 2010, Bluewater Wind stated its intention to acquire a lease for the proposed lease area and provided documentation that it had submitted the required acquisition fee.

This RFCI is published pursuant to subsection 8(p)(3) of the OCS Lands Act, as amended by section 388 of the Energy Policy Act of 2005 (EPAct) (43 U.S.C. 1337(p)(3)), and the implementing regulations at 30 CFR Part 285. Subsection 8(p)(3) of the OCS Lands Act requires that OCS renewable energy leases, easements, and rights-of-way be issued “on a competitive basis unless the Secretary determines after public notice of a proposed lease, easement, or right-of-way that there is no competitive interest.” This RFCI provides such public notice for the proposed lease area. Also, with this announcement BOEMRE invites all interested and affected parties to comment and provide information—including information on existing uses and environmental issues and concerns—that will be useful in the environmental analysis of potential wind development activities in the proposed lease area. A detailed description of the proposed lease area is presented below.

DATES: BOEMRE must receive your indication of competitive interest for this entire proposed lease area no later than February 10, 2011 for your submission to be considered. BOEMRE requests comments or other submissions of information by this same date. We will consider only valid submissions that meet the criteria set forth in 30 CFR Part 285 received by the due date above.

SUBMISSION PROCEDURES: You may submit your indication of competitive interest by one of two methods:

1. Electronically: http://www.regulations.gov. In the entry titled “Enter Keyword or ID,” enter BOEM-2010-0075, and then click “search”. Follow the instructions to submit public comments and view supporting and related materials available for this notice. BOEMRE will post all comments.

2. By mail, sending your indication of interest, comments, and information to the following address: Bureau of Ocean Energy Management, Regulation and Enforcement, Office of Offshore Alternative Energy Programs, 381 Elden Street, Mail Stop 4090, Herndon, Virginia 20170-4817.

FOR FURTHER INFORMATION CONTACT: Erin C. Trager, Projects and Coordination Branch, BOEMRE, Office of Offshore Alternative Energy Programs, 381 Elden Street, Mail Stop 4090, Herndon, Virginia 20170-4817; telephone (703) 787-1713.

SUPPLEMENTARY INFORMATION:

Purpose of This RFCI

This RFCI gives parties the opportunity to express interest in competing for the acquisition of an OCS commercial wind lease for the proposed lease area. If BOEMRE receives valid indications of competitive interest in response to this notice, it may implement the competitive lease process outlined at 30 CFR 285.210-.225. If BOEMRE receives no valid indications of competitive interest and determines that there is no competitive interest, it may implement the noncompetitive lease process outlined at 30 CFR 285.232. Both the competitive and noncompetitive processes and related environmental review processes were described in the RFI dated April 26, 2010.

Parties other than those interested in obtaining a commercial lease are welcome to submit comments in response to this RFCI. Additionally, BOEMRE has formed a Delaware OCS Renewable Energy Task Force for coordination with affected Federal agencies and state, local, and tribal governments throughout the leasing process. Task Force members and meeting materials are available on the BOEMRE Web site at: http://www.boemre.gov/offshore/RenewableEnergy/stateactivities.3htm#Delaware.

Description of the Proposed Lease Area

The proposed lease area consists of 10 OCS lease full blocks, 116 OCS lease sub-blocks, and 18 OCS lease partial sub-blocks. A sub-block for the purposes of this RFCI is 1/16 of an OCS lease full block. Following are the OCS lease full blocks: Salisbury NJ18-05 Blocks 6325, 6326, 6327, 6375, 6376, 6377, 6426, 6427, 6477, and 6527. In addition, the table below describes the OCS lease sub-blocks included within the area of interest. Note that the most western areas within the western column of sub-blocks in Salisbury NJ18-05 Blocks 6274 and 6324 will be stipulated to prohibit any development activities where the sub-block overlaps with the charted “Danger Area,” an explosives dumping ground. The sub-blocks that will be stipulated based on this known Explosives Dumping Ground are noted below with an asterisk (*).

Protraction name | Protraction No. | Block No. | Sub-block
Salisbury | NJ18-05 | 6274 | M*,N,O,P.
Salisbury | NJ18-05 | 6275 | M,N,O,P.
Salisbury | NJ18-05 | 6276 | M,N,O,P.
Salisbury | NJ18-05 | 6277 | M,N,O,P.
Salisbury | NJ18-05 | 6278 | M,N.
Salisbury | NJ18-05 | 6324 | A*,B,C,D,E*,F,G,H,I*,J,K,L,M*,N,O,P.
Salisbury | NJ18-05 | 6328 | A,B,E,F,I,J,M,N.
Salisbury | NJ18-05 | 6374 | A,B,C,D,E,F,G,H,J,K,L,O,P.
Salisbury | NJ18-05 | 6378 | A,B,E,F,I,J,M,N.
Salisbury | NJ18-05 | 6424 | D.
Salisbury | NJ18-05 | 6425 | A,B,C,D,E,F,G,H,I,J,K,L,N,O,P.
Salisbury | NJ18-05 | 6428 | A,B,E,F,I,J,M.
Salisbury | NJ18-05 | 6475 | C,D,H.
Salisbury | NJ18-05 | 6476 | A,B,C,D,E,F,G,H,I,J,K,L,N,O,P.
Salisbury | NJ18-05 | 6478 | A,E,I,M.
Salisbury | NJ18-05 | 6526 | B,C,D,G,H,L.
Salisbury | NJ18-05 | 6577 | B,C.

In addition, the table below describes the partial sub-blocks included in the area of interest: The partial sub-blocks are bounded by the coordinates provided below the table as referenced in the column Boundary edge. Coordinates are provided in X, Y (eastings, northings) UTM Zone 18N, NAD 83 and geographic (longitude, latitude), NAD83.

Protraction name | Protraction No. | Block No. | Partial sub-block | Boundary edge
Salisbury | NJ18-05 | 6274 | J,K,L | Northern**.
Salisbury | NJ18-05 | 6275 | I,J,K,L | Northern**.
Salisbury | NJ18-05 | 6276 | I,J | Northern**.
Salisbury | NJ18-05 | 6374 | I,N | Southwestern***.
Salisbury | NJ18-05 | 6424 | C,H,L | Southwestern***.
Salisbury | NJ18-05 | 6425 | M | Southwestern***.
Salisbury | NJ18-05 | 6475 | B,G,L | Southwestern***.

** Northern boundary:

Point No. | X (easting) | Y (northing) | Longitude | Latitude
1 | 505537.918949 | 4289342.054910 | −74.936267 | 38.752755
2 | 537257.896672 | 4287622.083370 | −74.571316 | 38.736486

*** Southwestern boundary:

Point No. | X (easting) | Y (northing) | Longitude | Latitude
1 | 505537.918949 | 4289342.054910 | −74.936267 | 38.752755
2 | 530399.822669 | 4259687.322270 | −74.651442 | 38.485007

Map of Proposed Lease Area

A map of the proposed lease area is available at the following URL: http://www.boemre.gov/offshore/RenewableEnergy/stateactivities.htm#Delaware.

A large-scale map of the proposed lease area showing its boundaries and numbered blocks is available from BOEMRE at the following address: Bureau of Ocean Energy Management, Regulation and Enforcement, Office of Offshore Alternative Energy Programs, 381 Elden Street, Mail Stop 4090, Herndon, Virginia 20170-4817, Phone: (703) 787-1300, Fax: (703) 787-1708.

Highlighted Portions of the Proposed Lease Area

The proposed lease area includes portions that BOEMRE wishes to highlight as areas of special interest or concern based on available information. These include the obstruction area consisting of a fish haven/artificial reef site identified on National Oceanic and Atmospheric Administration (NOAA) nautical charts, which was described in the April 26, 2010 notice (coordinates listed below):

Point No. | X (easting) | Y (northing) | Longitude | Latitude
1 | 523043.216256 | 4281282.246340 | −74.735077 | 38.679839
2 | 525024.306894 | 4281183.549880 | −74.712304 | 38.678896
3 | 524708.429395 | 4279986.367770 | −74.715978 | 38.668116
4 | 524599.514352 | 4279572.346900 | −74.717245 | 38.664388
5 | 524255.539477 | 4279604.189130 | −74.721198 | 38.664684
6 | 522091.708618 | 4279798.266490 | −74.746063 | 38.666490
7 | 522393.836728 | 4281025.207860 | −74.742551 | 38.677539
8 | 522464.137335 | 4281311.495710 | −74.741733 | 38.680118
1 | 523043.216256 | 4281282.246340 | −74.735077 | 38.679839

Additional highlighted areas include those identified by comments submitted in response to the April 26, 2010 notice or through deliberations of the BOEMRE—Delaware OCS Renewable Energy Task Force as described below:

Potential U.S. Coast Guard (USCG) Anchorage Area—The USCG anticipates establishing through rulemaking an anchorage ground within the proposed lease area, east of the Delaware to Cape Henlopen Traffic Lane, defined by the area enclosed by the following points: 38-40.9N 74-52.0W, 38-40.9N 74-48.8W, 38-37.6N 74-48.5W. Authority to create such an anchorage ground beyond 3 NM is included in The Coast Guard Authorization Act of 2010 [Pub. L. 111-281].

Recreational Fishing Grounds—NOAA, National Marine Fisheries Service (NMFS), identified five recreational fishing areas that reside partially or wholly within the proposed lease area in consultation with the Mid-Atlantic Fishery Management Council, including Old Grounds, Mussel Bed, Inside Mud Hole, Middle Mud Hole, and Outer Mud Hole.

Summary of Comments Received in Response to the April 26, 2010, RFI

On June 25, 2010, the comment period closed for the Delaware RFI (75 FR 21653). BOEMRE received eight responses during the public comment period, including two commercial expressions of interest and comments from three government agencies, one marine waterway operator, one trade association, and a non-governmental organization. Comments received in response to the RFI are available at the following URL: http://www.boemre.gov/offshore/RenewableEnergy/stateactivities.htm#Delaware.

BOEMRE convened a task force meeting on July 15, 2010, to inform the task force members of the RFI responses and discuss next steps. The task force meeting also gave representatives from the Federal agencies that submitted comments an opportunity to present and discuss those comments with the rest of the task force.

Some of the comments requested a change to the RFI area considered for leasing and included suggestions such as identifying areas for exclusion, mitigation, or further study. Specific areas identified for exclusion or mitigation include the area charted as Explosives Dumping Ground in the westernmost part of the area of interest, an area that could potentially be designated as a vessel anchorage ground, and five recreational fishing areas, as depicted on the map of the proposed lease area. In addition, the USCG suggested—pending further study of traffic patterns—that a 0.5 NM (925 meters) buffer may be needed between the Traffic Separation Scheme (TSS) and the area identified for leasing, instead of the 500 meter buffer proposed in the RFI. Other comments expressed concern with navigational safety in the RFI area as a result of development in that area of interest.

Given existing defense activities in the area of interest, the Department of Defense (DoD) informed BOEMRE of its assessment that wind energy infrastructure may be feasible in this area if the infrastructure is subject to DoD site specific conditions and stipulations. Stipulations could include: A hold and save harmless agreement between the developer and DoD; mandatory coordination with DoD on specified activities; restrictions on electromagnetic emissions; and a requirement for wind energy industry personnel to evacuate the area for safety reasons when notified by DoD. In addition, other comments suggested areas where further environmental data may be warranted, and provided environmental data that may further inform future environmental review.

Given concerns about the safety of development in the charted Explosives Dumping Ground, BOEMRE has decided to exclude this area from potential development, which is reflected in the map of the proposed lease area. The easternmost edge of the Explosives Dumping Ground will be stipulated as a “no build” area where it overlaps with the proposed lease area in OCS lease blocks NJ18-05 6274 and 6324.

BOEMRE has decided to retain within its proposed lease area the area designated as a potential USCG vessel anchorage area, given that this potential anchorage ground is subject to a yet-to-be-made rulemaking decision. In the event that the designated area becomes a USCG vessel anchorage area, BOEMRE may consider applying mitigation measures such as designating the area as a “no build” zone.

Further, BOEMRE will examine vessel traffic data for vessels equipped with automatic identification system (AIS) transponders before requiring a larger buffer between the edge of the TSS and the proposed lease area or applying other mitigation measures within the proposed lease area. BOEMRE, in consultation with the USCG, will conduct further study on traffic patterns and traffic density in the area of interest before modifying the proposed TSS buffer, which is currently set at 500 meters. If data suggests that heavy traffic transits within 0.5 NM of the edge of the TSS, BOEMRE has the discretion to require a larger buffer.

For the purposes of the RFCI, the recreational fishing areas identified by NOAA NMFS and the Mid-Atlantic Fishery Management Council, including Old Grounds, Mussel Bed, Inside Mud Hole, Middle Mud Hole, and Outer Mud Hole, will be retained in the proposed lease area rather than excluded at this time. Because little information is known about the potential impact of development on these sites, BOEMRE will consider available information during the NEPA process that will be undertaken in advance of commercial development.

Required Indication of Interest Information

If you intend to express competitive interest in acquiring an OCS commercial wind lease for the proposed lease area, you must submit the following (note: Bluewater is not required to re-submit its expression of interest):

(1) A statement that you wish to acquire a commercial wind lease for the proposed lease area (i.e., the entire area as described above). BOEMRE will not consider nominations valid if they cover less than the entire proposed lease area or describe any areas outside of the proposed lease area in this process. Any request for a commercial wind lease located outside of the proposed lease area should be submitted separately pursuant to 30 CFR 285.230;

(2) A description of your objectives and the facilities that you would use to achieve those objectives;

(3) A schedule of proposed activities, including those leading to commercial operations;

(4) Available and pertinent data and information concerning renewable energy and environmental conditions in the area of interest, including energy and resource data and information used to evaluate the area of interest;

(5) Documentation demonstrating that you are qualified to hold a lease as set forth in 30 CFR 285.107, including documentation demonstrating that you are technically and financially capable of constructing, operating, maintaining, and decommissioning the facilities described in (2) above.

It is critical that your submission of an indication of competitive interest is complete so that BOEMRE may proceed in a timely manner with the commercial wind leasing process for the lease area on the OCS off Delaware. If BOEMRE reviews your indication of competitive interest and determines that it is incomplete, BOEMRE will inform you of this determination in writing. This letter will describe the information BOEMRE determined to be missing and that you must submit in order for BOEMRE to deem your submission complete. You will be given 15 business days from the date of the letter to submit the information that BOEMRE has determined to be missing from your original submission. If you do not meet this deadline, or if BOEMRE determines that the additional information that you provided in response to its initial determination fails to complete your submission, then BOEMRE may deem your indication of competitive interest incomplete and may not consider it a valid submission.

Privileged or Confidential Information

BOEMRE will protect privileged or confidential information that you submit as required by the Freedom of Information Act (FOIA). Exemption 4 of FOIA applies to trade secrets and commercial or financial information that you submit that is privileged or confidential. If you wish to protect the confidentiality of such information, clearly mark it and request that BOEMRE treat it as confidential. BOEMRE will not disclose such information, qualifying for withholding under the terms of FOIA. Please label privileged or confidential information “Contains Confidential Information” and consider submitting such information as a separate attachment.

However, BOEMRE will not treat as confidential any aggregate summaries of such information or comments not containing such information. Also, BOEMRE will not treat as confidential (1) the legal title of the nominating entity (for example, the name of your company), or (2) the list of whole or partial blocks that you are nominating.

Dated: January 14, 2011.
Michael R. Bromwich,
Director, Bureau of Ocean Energy Management, Regulation and Enforcement.

[FR Doc. 2011-1594 Filed 1-24-11; 11:15 am]

BILLING CODE 4310-MR-P